DEPARTMENT OF AGRICULTURE

Animal and Plant Health Inspection Service

[Docket No. APHIS-2007-0010]

Notice of Request for Approval of an Information Collection; National Animal Identification System; Tribal Participants in Premises Registration

AGENCY: Animal and Plant Health Inspection Service, USDA.

ACTION: New information collection; comment request.

SUMMARY: In accordance with the Paperwork Reduction Act of 1995, this notice announces the Animal and Plant Health Inspection Service's intention to initiate a new information collection activity for Tribal participants in premises registration for the National Animal Identification System.

DATES: We will consider all comments that we receive on or before May 8, 2007.

ADDRESSES: You may submit comments by either of the following methods:

Federal eRulemaking Portal: Go to http://www.regulations.gov, select “Animal and Plant Health Inspection Service” from the agency drop-down menu, then click “Submit.” In the Docket ID column, select APHIS-2007-0010 to submit or view public comments and to view supporting and related materials available electronically. Information on using Regulations.gov, including instructions for accessing documents, submitting comments, and viewing the docket after the close of the comment period, is available through the site's “User Tips” link.

Postal Mail/Commercial Delivery: Please send four copies of your comment (an original and three copies) to Docket No. APHIS-2007-0010, Regulatory Analysis and Development, PPD, APHIS, Station 3A-03.8, 4700 River Road Unit 118, Riverdale, MD 20737-1238. Please state that your comment refers to Docket No. APHIS-2007-0010.

Reading Room: You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: For information on an information collection for Tribal participants in premises registration for the National Animal Identification System, contact Dr. John Wiemers, National Animal Identification Staff, VS, 2100 Lake Storey Road, Galesburg, IL 61401; (309) 344-1942. For copies of more detailed information on the information collection, contact Mrs. Celeste Sickles, APHIS' Information Collection Coordinator, at (301) 734-7477.

SUPPLEMENTARY INFORMATION: Title: National Animal Identification System; Tribal Participants in Premises Registration.

OMB Number: 0579-XXXX.

Type of Request: Approval of a new information collection.

Abstract: As part of ongoing efforts to safeguard animal health, the U.S. Department of Agriculture initiated implementation of a National Animal Identification System (NAIS) in 2004. The NAIS is a cooperative State-Federal-industry program administered by USDA's Animal and Plant Health Inspection Service (APHIS). The purpose of the NAIS is to provide a streamlined information system that will help producers and animal health officials respond quickly and effectively to animal disease events in the United States.

The first component of the program, premises registration, is well underway and the second component, animal identification, is being implemented for several species. The third component, animal tracing, is currently under development with USDA's State and industry partners. Industry, through private systems, and States will manage the animal tracking databases that maintain the movement records of animals. These information systems will provide the location of a subject animal and the records of other animals that the subject animal came into contact with at each premises. Participation in any component of the program is voluntary.

Premises registration, the foundation of NAIS, is critical to rapidly detecting and evaluating the scope of animal disease outbreaks, controlling emergency program budgets, and improving emergency response efficiency. Having the ability to plot locations within a radius of affected premises will help determine the potential magnitude of a disease event and the resources that are needed to adequately respond in an effective manner. This can be accomplished only if the affected premises and other premises in the area have been registered. All 50 States, 60 Native American Tribes, and 2 territories are currently participating in premises registration. More than 350,000 premises have been registered to date.

Several systems are available to States and Tribes for use in registering premises: The Standardized Premises Registration System provided by USDA, Compliant Premises Registration Systems developed by States or third parties and evaluated by USDA as compliant, and now a Tribal Premises Registration System provided by USDA.

USDA is pleased with the cooperative working relationships we have with Tribes participating in the development and implementation of the NAIS. Meeting the needs of Native Americans has been a priority for USDA since the inception of the NAIS, and we have sought to have Tribal representatives involved in the development of the system. Most recently, USDA partnered with Tribal representatives in the development and testing of the Tribal Premises Registration System that is now available for use.

APHIS will provide the opportunity for participating Tribes to designate, by completing a form, which premises registration system they prefer to use, and will use the form to initiate the process for Tribes to have access to their system of choice. The form will be made available by the Tribal liaison for the NAIS program and on the NAIS Web site (http://animalid.aphis.usda.gov/nais/index.shtml).

We are asking the Office of Management and Budget to approve our use of this information collection activity for 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 1 hour per response.

Respondents: Tribal entities or organizations who are interested in participating in the NAIS premises registration component or who are already participating in the NAIS.

Estimated annual number of respondents: 60.

Estimated annual number of responses per respondent: 1.

Estimated annual number of responses: 60.

Estimated total annual burden on respondents: 60 hours. (Due to averaging, the total annual burden hours may not equal the product of the annual number of responses multiplied by the reporting burden per response.)

All responses to this notice will be summarized and included in the request for OMB approval. All comments will also become a matter of public record.

Done in Washington, DC, this 5th day of March 2007.
Kevin Shea,
Acting Administrator, Animal and Plant Health Inspection Service.

[FR Doc. E7-4239 Filed 3-8-07; 8:45 am]

BILLING CODE 3410-34-P